DEPARTMENT OF ENERGY

Federal Energy Regulatory Commission

[Docket No. ER02-111-010, et al.]

Midwest Independent Transmission System Operator, Inc., et al.; Electric Rate and Corporate Filings

June 24, 2003.

The following filings have been made with the Commission. The filings are listed in ascending order within each docket classification.

1. Midwest Independent Transmission System Operator, Inc.

[Docket Nos. ER02-111-010 and ER02-652-005]

Take notice that on June 19, 2003, the Midwest Independent Transmission System Operator, Inc. (Midwest ISO) submitted for filing proposed revisions to Schedule 10 (ISO Cost Recovery Adder) of the Midwest ISO Open Access Transmission Tariff (OATT), FERC Electric Tariff, Second Revised Volume No. 1, pursuant to Order of the Federal Energy Regulatory Commission, Midwest Independent Transmission System Operator Inc., 103 FERC • 61,205.

Midwest ISO states that pursuant to the Settlement reached in these proceedings, the Midwest ISO requests an effective date of March 1, 2003.

The Midwest ISO has requested waiver of the service requirements set forth in 18 CFR 385.2010. The Midwest ISO states that it has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter.

Comment Date: July 10, 2003.

2. Midwest Independent Transmission System Operator, Inc.

[Docket No. ER02-290-003]

Take notice that on June 20, 2003, the Midwest Independent Transmission System Operator, Inc. (the Midwest ISO) tendered for filing its Revised Process for the Use of Network Resources Outside of the Midwest ISO and Resolving Competing Requests for Transmission Service Among Network Customers and between Point-to-Point and Network Customers as Attachment “U” to its Open Access Transmission Tariff in compliance with the Commission's May 21, 2003, Order issued in Midwest Independent Transmission System Operator, Inc., 103 FERC • 61,212.

The Midwest ISO has requested waiver of the requirements set forth in 18 CFR 385.2010. The Midwest ISO states that it has electronically served a copy of this filing, with attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading Filings to FERC” for other interested parties in this matter.

Comment Date: July 11, 2003.

3. Midwest Independent Transmission System Operator, Inc.

[Docket No. ER03-378-001]

Take notice that on June 20, 2003, Midwest Independent Transmission System Operator, Inc.(Midwest ISO), FPL Energy Hancock County Wind, LLC, and Interstate Power and Light Company, a wholly-owned subsidiary of Alliant Energy Corporation (collectively, the Parties) submitted for filing an Amended Interconnection and Operating Agreement.

Midwest ISO states that copies of this filing were served to FPL Energy and Alliant Energy.

Comment Date: July 11, 2003.

4. New York Independent System Operator, Inc.

[Docket No. ER03-647-002]

Take notice that on June 19, 2003, the New York Independent System Operator, Inc. (NYISO) tendered for filing a compliance filing in accordance with the Commission's May 20, 2003 Order accepting for filing tariff revisions in Docket No. ER03-647-000. The NYISO has requested an effective date of June 19, 2003.

The NYISO states it has served a copy of this filing upon all parties that have executed service agreements under the NYISO's Open Access Transmission Tariff or the Services Tariff and upon the New York State Public Service Commission and to the electric utility regulatory agencies in New Jersey and Pennsylvania.

Comment Date: July 10, 2003.

5. Minnesota Power

[Docket No. ER03-691-001]

Take notice that on June 19, 2003, the Midwest Independent Transmission System Operator, Inc. (Midwest ISO) and Minnesota Power, Inc. (Minnesota Power) filed a revised Network Integration Transmission Service Agreement (NITS Agreement) entered into between Minnesota Power and Great River Energy in compliance with Order No. 614, FERC • 31,096, and as directed by the Commission's May 21, 2003 Letter Order in this proceeding.

The Midwest ISO and Minnesota Power state that all parties on the service list maintained by the Secretary in this proceeding have been served a copy of this filing via United States mail.

Comment Date: July 10, 2003.

6. Susquehanna Energy Products, LLC

[Docket No. ER03-768-002]

Take notice that on June 20, 2003, Susquehanna Energy Products, LLC (Susquehanna Energy) tendered for filing a revised FERC Electric Tariff, Original Volume Number 1, to permit the resale of transmission capacity and Firm Transmission Rights or their equivalents to become effective June 23, 2003. Susquehanna Energy Requests a waiver of the 60-day prior notice requirement and a shortened 10-day public comment period. Susquehanna Energy further requests expedited treatment and a Commission order by July 3, 2003.

Comment Date: July 7, 2003.

7. Ameren Services Company

[Docket No. ER03-968-000]

Take notice that on June 19, 2003, Ameren Services Company (ASC) tendered for filing an executed Service Agreement for Firm Point-to-Point Transmission Services between ASC and Wisconsin Electric Power Co. ASC asserts that the purpose of the Agreement is to permit ASC to provide transmission service to Wisconsin Electric Power Co., pursuant to Ameren's Open Access Transmission Tariff.

Comment Date: July 10, 2003.

8. Ameren Services Company

[Docket No. ER03-969-000]

Take notice that on June 19, 2003, Ameren Services Company (ASC) tendered for filing an executed Service Agreement for Firm Point-to-Point Transmission Services between ASC and Constellation Power Source, Inc. ASC asserts that the purpose of the Agreement is to permit ASC to provide transmission service to Constellation Power Source, Inc. pursuant to Ameren's Open Access Transmission Tariff.

Comment Date: July 10, 2003.

9. Ameren Services Company

[Docket No. ER03-970-000]

Take notice that on June 19, 2003, Ameren Services Company (ASC) tendered for filing an executed for Network Integration Transmission Agreement and Network Operating Agreement between ASC and Central Illinois Light Company, d/b/a AmerenCILCO. ASC asserts that the purpose of the Agreement is to permit ASC to provide transmission service to Central Illinois Light Company, d/b/a AmerenCILCO pursuant to Ameren's Open Access Transmission Tariff.

Comment Date: July 10, 2003.

10. Public Service Company of Colorado

[Docket No. ER03-971-000]

Take notice that on June 19, 2003, Public Service Company of Colorado (PS Colorado) tendered for filing, to be effective August 18, 2003, proposed (1) changes in rates applicable to the following customers: Grand Valley Rural Power Lines, Inc.; Holy Cross Electric Association, Inc.; Intermountain Rural Electric Association; Yampa Valley Electric Association, Inc.; the Town of Julesburg, Colorado; the City of Burlington, Colorado; and the Town of Center, Colorado; (2) changes in the Fuel Cost Adjustment (FCA) clause applicable to each of these customers and (3) PS Colorado's power supply contracts with each of these customers, integrated and conformed to the requirements of Order No. 614, including rate schedule designations. PS Colorado states that the filing incorporates rates applicable to service to Cheyenne Light, Fuel and Power Company, proposed to be effective January 1, 2004.

PS Colorado states that copies have been served on each of the affected customers, Colorado Public Utilities Commission, the Colorado Office of Consumers Counsel, the Wyoming Public Service Commission and the Wyoming Office of Consumer Advocate. PS Colorado states that copies of the filing are available for public inspection in the offices of PS Colorado in Denver, Colorado.

Comment Date: July 10, 2003.

11. Mid-Continent Area Power Pool

[Docket No. ER03-972-000]

Take notice that on June 19, 2003, the Mid-Continent Area Power Pool (MAPP), on behalf of its members that are subject to Commission jurisdiction as public utilities under Section 201(e) of the Federal Power Act, filed an amendment to Schedule F (FERC Electric Tariff, First Revised Volume No. 1) that would amend Section 2 to eliminate the exclusive use requirement of Schedule F.

MAPP states that a copy of this filing has been served on all MAPP members and the state commissions in the MAPP region.

Comment Date: July 10, 2003.

12. Pacific Gas and Electric Company

[Docket No. ER03-973-000]

Take notice that on June 20, 2003, Pacific Gas and Electric Company (PG&E) tendered for filing an agreement entitled Special Facilities Agreement for the Interconnection of Silicon Valley Power's Single Circuit 230kV Line into Los Esteros Substation (SFA) between PG&E and Silicon Valley Power (SVP).

PG&E states that the SFA states that it permits PG&E to recover its costs for installing, owning, operating and maintaining Special Facilities necessary for the interconnection of SVP's single circuit 230kV line with PG&E's transmission system. PG&E has requested certain waivers.

PG&E states that copies of this filing were served upon SVP, the California Independent System Operator, and the California Public Utilities Commission.

Comment Date: July 11, 2003.

13. Avista Corporation

[Docket No. ER03-974-000]

Take notice that on June 20, 2003, Avista Corporation, tendered for filing with the Federal Energy Regulatory Commission pursuant to section 35.12 of the Commission's Regulations at 8 CFR 35.12, an executed Mutual Monthly Netting and Close-Out Netting Agreement, Rate Schedule No. 301, with Mirant Americas Energy Marketing, LP, effective May 1, 2003.

Avista states that notice of the filing has been served to Mirant Americas Energy Marketing, LP.

Comment Date: July 11, 2003.

14. American Electric Power Service Corporation

[Docket No. ER03-975-000]

Take notice that on June 20, 2003, American Electric Power Service Corporation (AEPSC) as agent for Southwestern Electric Power Company (SWEPCO) tendered for filing pursuant to § 35.15 of the Federal Energy Regulatory Commission's regulations, 18 CFR 35.15, a Notice of Cancellation of service agreements between SWEPCO and various entities under SWEPCO FERC Electric Tariff, First Revised Volume No. 5 (Power Sales Tariff) and Notice of Cancellation of a power supply agreement between SWEPCO and the City of Minden, Louisiana under SWEPCO FERC Rate Schedule No. 116 (Minden Power Supply Agreement). The Power Sales Tariff was accepted for filing by the Commission, effective January 1, 1997 in Docket No.

ER96-2342-000 and the Minden Power Supply Agreement was accepted for filing by the Commission, effective May 1, 1995 in Docket ER95-927-000.

AEPSC requests an effective date of June 1, 2003 for the cancellations that are part of its filing. AEPSC states that it has served copies of the filing upon the parties listed in Exhibit 1 and the affected state regulatory commissions.

Comment Date: July 11, 2003.

15. Ameren Services Company

[Docket No. ER03-976-000]

Take notice that on June 20, 2003, Ameren Services Company (ASC) tendered for filing an executed Service Agreement for Firm Point-to-Point Transmission Service between ASC and Columbia, MO Water & Light. ASC asserts that the purpose of the Agreement is to permit ASC to provide transmission service to Columbia, MO Water & Light pursuant to Ameren's Open Access Transmission Tariff.

Comment Date: July 11, 2003.

16. Ameren Services Company

[Docket No. ER03-977-000]

Take notice that on June 20, 2003, Ameren Services Company (ASC) tendered for filing an executed Service Agreement for Firm Point-to-Point Service between ASC and Westar Energy, Inc. ASC asserts that the purpose of the Agreement is to permit ASC to provide transmission service to Westar Energy, Inc. pursuant to Ameren's Open Access Transmission Tariff.

Comment Date: July 11, 2003.

17. Southwest Power Pool, Inc.

[Docket No. ER03-978-000]

Take notice that on June 20, 2002, Southwest Power Pool, Inc. (SPP), tendered for filing an executed interconnection agreement (IA) between SPP, Blue Canyon Windpower, LLC (Blue Canyon) and Western Farmers Electric Cooperative (WFEC) under the SPP Open Access Transmission Tariff. SPP requests an effective date of May 22, 2003 for this IA.

SPP states that a copy of the filing was served on representatives of Blue Canyon and WFEC.

Comment Date: July 11, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-16673 Filed 7-1-03; 8:45 am]

BILLING CODE 6717-01-P•